DEPARTMENT OF STATE

[Public Notice 12474]

30-Day Notice of Proposed Information Collection: Pre-Employment Medical and Driver Evaluation Forms

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to September 11, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Dr. Michael Rudisile, 2401 E Street NW, SA-1, Room H-228, Washington, DC 20522-0101, who may be reached on 202-663-1682 or at rudisileme@state.gov.

SUPPLEMENTARY INFORMATION:

• Title of Information Collection: Pre-Employment Medical and Driver Evaluation Forms.

• OMB Control Number: None.

• Type of Request: New Collection.

• Originating Office: Bureau of Medical Services, Office of Occupational Health and Wellness, MED/CP/HS/OH.

• Form Number: DS-6571, DS-6572, DS-6573, DS-6574, DS-6575, DS-6576, DS-6577.

• Respondents: Prospective locally employed staff employees and prospective/current employees who require a driver certificate to operate a government owned vehicle overseas.

• Estimated Number of Respondents: 13,000.

• Estimated Number of Responses: 13,000.

• Average Time per Response: 2.66 hours.

• Total Estimated Burden Time: 34,550.

• Frequency: Once, every two years, or every four years depending on occupation requirements.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This collection is necessary for the Department's Bureau of Medical Services to evaluate medical eligibility for employment regarding operating a government owned vehicle, and for gathering supplemental pertinent medical information regarding identified conditions that could pose a safety risk to employees and others. This collection consists of the following forms: the medical evaluation for locally employed staff non-drivers (DS-6571); a tuberculosis risk assessment (DS-6573); a driver medical evaluation for locally employed staff (DS-6572); a driver medical evaluation for U.S. Direct Hire (DS-6576); and supplemental health questionnaires. The supplemental health questionnaires are utilized for vision related (DS-6577), seizure related (DS-6574), and diabetes related diagnoses (DS-6575). These questionnaires and concurrent medical evaluations are required to make informed assessments on ability to complete required employment-related tasks; implementation of this collection is pursuant to 5 CFR 930.108, 339.301, and the Foreign Service Act of 1980, as amended, 22 U.S.C. 4084, 3901, and 3984.

Methodology

The respondent will download the forms from a Department website. The respondent will complete and submit the forms to the local Health Unit and schedule an evaluation.

Geoffrey L. Jones,
Deputy Chief Medical Officer for Clinical Programs, Bureau of Medical Services, Department of State.

[FR Doc. 2024-17894 Filed 8-9-24; 8:45 am]

BILLING CODE 4710-36-P